DEPARTMENT OF COMMERCE

International Trade Administration

University of Chicago, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Docket Number: 11-030. Applicant: University of Chicago, Institute for Genomic Systems and Biology, Chicago, IL 60637. Instrument: Digital Scanned Laser Microscope. Manufacturer: Emblem GMBH, Germany. Intended Use: See notice at 76 FR 48803, August 9, 2011. Comments: None received. Decision: Approved. We know of no instruments of equivalent scientific value to the foreign instruments described below, for such purposes as this is intended to be used, that was being manufactured in the United States at the time of its order. Reasons: The instrument will be used to study the functions and properties of biological materials, such as biomedical specimens, through microscopy imaging and recording of fluorescently labeled, light-sensitive samples. The DSLM is a new prototype not available commercially.

Docket Number: 11-044. Applicant: University of Chicago, Argonne National Laboratory, Lemont, IL 60439. Instrument: Magneto-optical Kerr Microscope System. Manufacturer: Evico Magnetics GmgH, Germany. Intended Use: See notice at 76 FR 47148, August 4, 2011. Comments: None received. Decision: Approved. We know of no instruments of equivalent scientific value to the foreign instruments described below, for such purposes as this is intended to be used, that was being manufactured in the United States at the time of its order. Reasons: The instrument will be used for real-time imaging of magnetic domains, as well as provide Kerr effect magnetic hysteresis loops, thereby providing important information on the reversal behavior in ferromagnetic films.

Docket Number: 11-045. Applicant: University of California Santa Barbara, Santa Barbara, CA 93106-5050. Instrument: Ultrasonic Fatigue Testing Equipment. Manufacturer: University of Natural Resources and Applied Life Sciences, Austria. Intended Use: See notice at 76 FR 48803, August 9, 2011. Comments: None received. Decision: Approved. We know of no instruments of equivalent scientific value to the foreign instruments described below, for such purposes as this is intended to be used, that was being manufactured in the United States at the time of its order. Reasons: The instrument is a highly specialized system for studying a wide range of materials used in very high cycle, high temperature applications, such as light metals, composite metal/ceramics, titanium alloys and superalloys.

Docket Number: 11-046. Applicant: University of California Los Angeles, Los Angeles, CA 90095. Instrument: Luminescence Reader. Manufacturer: Technical University of Denmark, Riso National Laboratory, Denmark. Intended Use: See notice at 76 FR 48803, August 9, 2011. Comments: None received. Decision: Approved. We know of no instruments of equivalent scientific value to the foreign instruments described below, for such purposes as this is intended to be used, that was being manufactured in the United States at the time of its order. Reasons: The instrument will be used to study the age of rock and sediment samples using thermoluminescence, optically stimulated luminescence and infrared luminescence.

Dated: September 2, 2011.
Gregory W. Campbell,
Director, Subsidies Enforcement Office, Import Administration.

[FR Doc. 2011-23275 Filed 9-9-11; 8:45 am]

BILLING CODE 3510-DS-P